DEPARTMENT OF TRANSPORTATION

Federal Aviation Administration

Environmental Impact Statements; Availability, etc.: Proposed Interim Fly Quiet (Draft Re-Evaluation)

AGENCY: Federal Aviation Administration, DOT.

ACTION: Notice of Availability of the Draft Re-Evaluation of the O'Hare Modernization Environmental Impact Statement for the Proposed Interim Fly Quiet (Draft Re-Evaluation).

Location of Proposed Action: O'Hare International Airport, Des Plaines and DuPage River Watersheds, Cook and DuPage Counties, Chicago, Illinois (Sections 4, 5, 6, 7, 8, 9, 16, 17, and 18, Township 41 North, Range 10 East, 3rd P.M.).

The Federal Aviation Administration (FAA) announces that the Draft Written Re-Evaluation of the O'Hare Modernization Environmental Impact Statement for the Proposed Interim Fly Quiet (Draft Re-Evaluation) for Chicago O'Hare International Airport, Chicago, Illinois is available for public review and comment.

The Draft Re-Evaluation analyzes and discloses the potential environmental impacts associated with the Proposed Interim Fly Quiet at O'Hare International Airport pursuant to the National Environmental Policy Act.

The FAA will host Public Workshops on the Draft Re-Evaluation. The Public Workshops on the Draft Re-Evaluation will be held on the following dates: Monday, February 4, 2019, at Belvedere Events and Banquets, 1170 West Devon Avenue, Elk Grove Village, Illinois 60007; Tuesday, February 5, 2019, at White Eagle Banquets, 6839 North Milwaukee Avenue, Niles, Illinois 60714; Wednesday, February 6, 2019, at Hanging Gardens Banquet Rooms, 8301 West Belmont Avenue, River Grove, Illinois 60171; and Thursday, February 7, 2019, at The Diplomat West, 681 West North Avenue, Elmhurst, Illinois 60126. Each Public Workshop will start at 2 p.m. (Central Standard Time), and registration to participate in the Public Workshops will conclude by 8 p.m. (Central Standard Time).

Representatives of FAA and its consultants will be available to provide information about the Draft Re-Evaluation. Spanish language translators will be available at the Public Workshops. If you need the assistance of a translator, other than Spanish, please call Ms. Amy Hanson at (847) 294-7354 by January 18, 2019.

The comment period is open as of Monday, January 14, 2019 and closes Wednesday, February 27, 2019. All comments are to be submitted to Amy Hanson of the FAA, directed below. Written comments must be postmarked and email must be sent by no later than midnight, Wednesday, February 27, 2019.

SUPPLEMENTARY INFORMATION: The Draft Re-Evaluation is available for review on line (http://www.faa.gov/airports/airport_development/omp/ifq_re_eval/) and at the following libraries in Illinois through February 27, 2019:

Addison Public Library, Arlington Heights Library, Bartlett Public Library, Bellwood Public Library, Bensenville Community Public Library, Berkeley Public Library, Bloomingdale Public Library, Carol Stream Public Library, the following Chicago libraries (Albany Park Library, Austin-Irving Library, Bezazian Library, Bucktown/Wicker Park Library, Budlong Woods Library, Conrad Sulzer Regional Library, Dunning Library, Edgebrook Library, Edgewater Library, Galewood/Mont Clare Library, Harold Washington Library, Humboldt Park Library, Independence Library, Jefferson Park Library, Lincoln/Belmont Library, Lincoln Park Library, Logan Square Library, Mayfair Library, Merlo Library, North Austin Library, North Pulaski Library, Northtown Library, Oriole Park Library, Portage-Cragin Library, Roden Library, Rogers Park Library, Uptown Library, West Belmont Library), College of DuPage Library, Des Plaines Library, Downers Grove Library, Elk Grove Village Public Library, Elmhurst Library, Elmwood Park Public Library, Evanston Public Library, Forest Park Public Library, Franklin Park Library, Glen Ellyn Public Library, Glencoe Public Library, Glenside Public Library in Glendale Heights, Glenview Public Library, Hanover Park Branch Library, Eisenhower Public Library in Harwood Heights, Hillside Public Library, Hoffman Estates Library, Itasca Community Library, Lisle Library District, Helen Plum Library in Lombard, Maywood Public Library, Melrose Park Public Library, Morton Grove Public Library, Mount Prospect Public Library, Niles Public Library, Northbrook Public Library, Northlake Public Library, Oak Brook Public Library, Oak Park Public Library, Oakton Community College Library, Park Ridge Public Library, Prospect Heights Public Library, River Forest Public Library, River Grove Public Library, Rolling Meadows Library, Roselle Public Library, Schaumburg Township District Library, Schiller Park Public Library, Skokie Public Library, St. Charles Public Library, Villa Park Public Library, West Chicago Public Library, Wheaton Public Library, Wilmette Public Library, Winnetka-Northfield Library, Winnetka-Northfield Library—Northfield Branch, and Wood Dale Public Library.

Written comments, faxes and emails should be submitted to Amy Hanson of the FAA. The comment period is open as of Monday, January 14, 2019 and closes Wednesday, February 27, 2019. FAA requests that comments submitted online at http://www.faa.gov/airports/airport_development/omp/IFQ_re_eval/. Court reporters will be available to record verbal comments at the Public Workshops, computers will be available to provide comments online, and copies of comment forms will also be available. If you need the assistance of a translator, other than Spanish, please call Ms. Amy Hanson at (847) 294-7354 by January 18, 2019.

For Further Information or To Submit Comments via Email, Mail or Fax Contact: Amy Hanson, Environmental Protection Specialist, Federal Aviation Administration, Chicago Airports District Office, 2300 East Devon Avenue, Des Plaines, IL 60018, FAX: 847-294-7046, email address: IFQ@faa.gov.

Issued in Des Plaines, IL, December 20, 2018.
Deb Bartell,
Manager, Chicago Airports District Office.

[FR Doc. 2019-00570 Filed 1-30-19; 8:45 am]

BILLING CODE P